DEPARTMENT OF ENERGY

Federal Energy Regulatory Commission

[Docket No. IC20-12-000]

Commission Information Collection Activities (FERC-73); Comment Request; Extension

AGENCY: Federal Energy Regulatory Commission, Department of Energy.

ACTION: Notice of information collection and request for comments.

SUMMARY: In compliance with the requirements of the Paperwork Reduction Act of 1995, the Federal Energy Regulatory Commission (Commission or FERC) is soliciting public comment on the currently approved information collection, FERC-73 (Oil Pipeline Service Life Data).

DATES: Comments on the collection of information are due June 15, 2020.

ADDRESSES: You may submit comments (identified by Docket No. IC20-12-000) by either of the following methods:

• eFiling at Commission's website: http://www.ferc.gov/docs-filing/efiling.asp.

• Mail/Hand Delivery/Courier: Federal Energy Regulatory Commission, Secretary of the Commission, 888 First Street NE, Washington, DC 20426.

Instructions: All submissions must be formatted and filed in accordance with submission guidelines at: http://www.ferc.gov/help/submission-guide.asp. For user assistance, contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, and telephone at (202) 502-8663.

SUPPLEMENTARY INFORMATION:

Title: FERC Form No. 73, Oil Pipeline Service Life Data.

OMB Control No.: 1902-0019.

Type of Request: Three-year extension of the FERC Form No. 73 information collection requirements with no changes to the current reporting requirements.

Abstract: The Commission collects FERC Form No. 73 information as part of its authority under the Interstate Commerce Act, 49 U.S.C. 60501, et al. FERC Form No. 73 contains necessary information for the review of oil pipeline companies' proposed depreciation rates, as regulated entities are required to provide service life data illustrating the remaining physical life of an oil pipeline's properties, in order to calculate the company's cost of service and its transportation rates to access customers. The Commission implements these filing reviews under the purview of 18 CFR part 357.3, FERC Form No. 73, Oil Pipeline Data for Depreciation Analysis, and 18 CFR part 347. Parts 357.3 and 347 require an oil pipeline company to submit information under FERC Form No. 73 when: (1) Requesting approval for new or changed depreciation rates of an oil pipeline; or (2) being directed by the Commission to file the service life data during an investigation of its book depreciation rates.

Type of Respondent: Oil pipeline companies.

Estimate of Annual Burden ¹: The Commission estimates the annual public reporting burden for the information collection as below:

¹ “Burden” is the total time, effort, or financial resources expended by persons to generate, maintain, retain, or disclose or provide information to or for a Federal agency. For further explanation of what is included in the information collection burden, refer to 5 CFR 1320.3.

FERC Form No. 73, Oil Pipeline Service Life Data
| Number of respondents | Annual number of responses per respondent | Total number of responses | Average burden & cost per response ² | Total annual burden & total annual cost | Cost per respondent ($)
| (1) | (2) | (1) * (2) = ( 3) | (4) | (3) * (4) = (5) | (5) ÷ (1)
Oil Pipelines Undergoing Investigation or Review | 32 | 1 | ³ 32 | 40 hrs.; $3,200 | 1,280 hrs.; $102,400 | $3,200

Comments: Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

² The Commission staff estimates the average cost in salary and benefits for the average respondent based on the Commission's 2019 average cost for salary plus benefits at $80/hour.

³ The total number of responses entailing the submittal of a depreciation study in the past three years was 96. The average response from those three years is 96/3years = 32 responses per year.

Dated: April 10, 2020.
Kimberly D. Bose,
Secretary.

[FR Doc. 2020-08035 Filed 4-15-20; 8:45 am]

BILLING CODE 6717-01-P